DEPARTMENT OF LABOR

Employment and Training Administration

[TA-W-37,313; NAFTA-03670]

PacifiCorp Shareholders Services and Investor Relations Departments, Portland, OR; Dismissal of Application for Reconsideration

Pursuant to 29 CFR 90.18(C) an application for administrative reconsideration was filed with the Director of the Division of Trade Adjustment Assistance for workers at PacifiCorp Shareholders Services and Investor Relations Departments, Portland, Oregon. The application contained no new substantial information which would bear importantly on the Department's determination. Therefore, dismissal of the application was issued.

TA-W-37,313 and NAFTA-03670; PacifiCorp Shareholders Services and Investor Relations Dept., Portland, Oregon (March 28, 2000)

Signed in Washington, D.C. this 29th day of March, 2000.
Grant D. Beale,
Program Manager, Division of Trade Adjustment Assistance.

[FR Doc. 00-8927 Filed 4-10-00; 8:45 am]

BILLING CODE 4510-27-M